DEPARTMENT OF DEFENSE

Department of the Navy

Notice of Intent To Grant Exclusive Patent License; Defense Group Inc.

AGENCY: Department of the Navy, DoD.

ACTION: Notice.

SUMMARY: The Department of the Navy hereby gives notice of its intent to grant to Defense Group Inc. a revocable, nonassignable, exclusive license integrated with Defense Group Inc.'s proprietary CoBRA® software platform to practice in the field of use of Public Safety, which shall mean the protection from events involving Chemical, Biological, or Radiological (CBR) airborne plumes that could endanger the safety of the general public from significant danger, injury/harm, or damage; the field of use of Industrial Safety and Monitoring, which shall mean to ensure plant and factory worker protection from hazards involving CBR airborne plumes that could cause injury to personnel; and the field of use of Environmental Monitoring, which shall mean the assessment of environmental impacts of CBR airborne plumes on the local environment in the United States, the Government-owned inventions described in U.S. Patent No. 7,542,884: System and Method for Zero Latency, High Fidelity Emergency Assessment of Airborne Chemical, Biological and Radiological Threats by Optimizing Sensor Placement, Navy Case No. 097,281//U.S. Patent Application No. 13/629,842: Apparatus System and Method of Depicting Plume Arrival Time, Navy Case No. 101,728 and any continuations, divisionals or re-issues thereof.

DATES: Anyone wishing to object to the grant of this license must file written objections along with supporting evidence, if any, not later than September 8, 2014.

ADDRESSES: Written objections are to be filed with the Naval Research Laboratory, Code 1004, 4555 Overlook Avenue SW., Washington, DC 20375-5320.

FOR FURTHER INFORMATION CONTACT: Rita Manak, Head, Technology Transfer Office, NRL Code 1004, 4555 Overlook Avenue SW., Washington, DC 20375-5320, telephone 202-767-3083. Due to U.S. Postal delays, please fax 202-404-7920, email: rita.manak@nrl.navy.mil or use courier delivery to expedite response.

(Authority: 35 U.S.C. 207, 37 CFR Part 404.)

Dated: August 18, 2014.
N. A. Hagerty-Ford,
Commander, Office of the Judge Advocate General, U.S. Navy, Federal Register Liaison Officer.

[FR Doc. 2014-19982 Filed 8-21-14; 8:45 am]

BILLING CODE 3810-FF-P